DEPARTMENT OF HEALTH AND HUMAN SERVICES

Administration for Children and Families

Proposed Information Collection Activity; Comment Request

Title: Pathways for Advancing Careers and Education (PACE): Third Follow-Up Data Collection.

OMB No.: 0970-0397.

Description: The Administration for Children and Families (ACF), U.S. Department of Health and Human Services (HHS), is proposing a data collection activity as part of the Pathways for Advancing Careers (PACE) evaluation. PACE is an evaluation of nine promising career pathways strategies to promote education, employment, and self-sufficiency. The major goal of PACE is to increase the empirical knowledge about the effectiveness of programs for low-income individuals and families to achieve educational credentials, attain employment, and advance to positions that enable self-sufficiency.

PACE is one project within the broader portfolio of research that the ACF Office of Planning, Research, and Evaluation (OPRE) is utilizing to assess the success of career pathways programs and models. In addition to PACE, this strategy includes a multi-pronged research and evaluation approach for the Health Profession Opportunity Grants (HPOG) Program to better understand and assess the activities conducted and their results. In order to maximize learning across this portfolio, survey development for the HPOG and PACE baseline and follow up surveys has been coordinated, and the majority of the data elements collected in these surveys are similar. (See OMB Control #0970-0394 for HPOG data collection.)

Three data collection efforts have been approved for PACE: One for baseline data collection (approved November 2011); a second for data collection activities to document program implementation, data collection activities for an initial follow-up survey of participants administered approximately 15 months after random assignment, and data collection through in-depth interviews for a small sample of study participants (approved August 2013); and a third for a second follow-up survey of participants administered 36 months after random assignment (approved December 2014).

This Federal Register Notice provides the opportunity to comment on a proposed new information collection activity for PACE—a third follow-up survey for PACE participants approximately 72 months after program enrollment. The purpose of the survey is to follow-up with study participants to document their education and training experiences; employment experiences including their advancement in their career; economic well-being; student debt and repayment status; and parenting practices and child outcomes for participants with children.

Previously approved collection activities under 0970-0397 will continue under this new request, specifically the 36-Month Follow-Up Survey and Follow-Up Survey Contact Information Update Letters.

Respondents: Individuals enrolled in the PACE study at programs selected for long-term follow-up.

Annual Burden Estimates
[This information request is for a three-year period]
Instrument | Total number of respondents | Annual number of respondents | Number of responses per respondent | Average burden hours per response | Annual burden hours
72-Month Follow-Up Survey | 3,600 | 1,200 | 1 | 0.75 | 1,125.

Estimated Total Annual Burden Hours: 1,125.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-00583 Filed 1-12-17; 8:45 am]

BILLING CODE 4184-09-P